DEPARTMENT OF DEFENSE

Department of the Army; Corps of Engineers

Notice of Availability of the Draft Feasibility Study; Environmental Impact Statement for the Chatfield Reservoir Storage Reallocation, Littleton, CO

AGENCY: Department of the Army, U.S. Army Corps of Engineers, DoD.

ACTION: Notice of availability.

SUMMARY: In accordance with the National Environmental Policy Act of 1969, as amended, the U.S. Army Corps of Engineers has prepared a Draft Feasibility Report/Environmental Impact Statement (FR/EIS) for the Chatfield Reservoir Storage Reallocation Study, Littleton, Colorado and by this notice is announcing the extension of the comment period.

DATES: The comment period has been extended for an additional 30 days and will end on September 6, 2012.

ADDRESSES: Written comments should be sent to: Department of the Army; Corps of Engineers, Omaha District; CENWO-PM-AA; ATTN: Chatfield Reservoir Storage Reallocation FR/EIS; 1616 Capitol Avenue; Omaha, NE 68102-4901. Comments can also be emailed to: mailto:Gwyn.M.Jarrett@usace.army.mil chatfieldstudy@usace.army.milmailto:Gwyn.M.Jarrett@usace.army.mil. Comments on the Draft FR/EIS for the Chatfield Reservoir Storage Reallocation Study must be postmarked, emailed, or otherwise submitted no later than September 6, 2012.

FOR FURTHER INFORMATION CONTACT: For further information and/or questions about the Chatfield Reservoir Storage Reallocation FR/EIS, please contact Ms. Gwyn Jarrett, Project Manager, by telephone: (402) 995-2717, by mail: 1616 Capitol Avenue, Omaha, NE 68102-4901, or by email: chatfieldstudy@usace.army.mil mailto:Gwyn.M.Jarrett@usace.army.mil. For inquiries from the media, please contact the USACE Omaha District Public Affairs Officer (PAO), Ms. Monique Farmer by telephone (402) 995-2416, by mail: 1616 Capitol Avenue, Omaha, NE., 68102-4901, or by email: Monique.l.Farmer@usace.army.mil.

For more information about the Chatfield Reservoir Storage Reallocation FR/EIS, please visit http://www.nwo.usace.army.mil/html/pd-p/Plan_Formulation/GI/GI_Chatfield.html.

Dated: July 11, 2012.
Gwyn Jarrett,
Project Manager.

[FR Doc. 2012-17587 Filed 7-18-12; 8:45 am]

BILLING CODE 3720-58-P